FEDERAL COMMUNICATIONS COMMISSION

[Report No. 2847]

Petitions for Reconsideration of Action in Rulemaking Proceeding

January 18, 2008.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by February 11, 2008. See Section 1.4(b)(1) of the Commission's rules (47 CFR 1.4(b)(1). Replies to oppositions must be filed within 10 days after the time for filing oppositions have expired.

Subject: In the Matter of Digital Audio Broadcasting Systems and Their Impact on the Terrestrial Radio Broadcast Service (MM Docket No. 99-325).

Number of Petitions Filed: 2.

Marlene H. Dortch,
Deputy Secretary.

[FR Doc. E8-1322 Filed 1-24-08; 8:45 am]

BILLING CODE 6712-01-P